DEPARTMENT OF THE TREASURY

Office of the Comptroller of the Currency

[Docket ID OCC-2021-0004]

Minority Depository Institutions Advisory Committee

AGENCY: Department of the Treasury, Office of the Comptroller of the Currency.

ACTION: Notice.

SUMMARY: The Office of the Comptroller of the Currency (OCC) announces a meeting of the Minority Depository Institutions Advisory Committee (MDIAC).

DATES: The OCC MDIAC will hold a public meeting on Tuesday, April 13, 2021, via webinar, beginning at 1:00 p.m. Eastern Daylight Time (EDT).

ADDRESSES: The OCC will hold the April 13, 2021 meeting of the MDIAC via webinar.

FOR FURTHER INFORMATION CONTACT: Beverly Cole, Designated Federal Officer and Deputy Comptroller for the Northeastern District, (212) 790-4001, Office of the Comptroller of the Currency, 340 Madison Ave., Fifth Floor, New York, New York 10173.

SUPPLEMENTARY INFORMATION: By this notice, the OCC is announcing that the MDIAC will convene a meeting at 1:00 p.m. EDT on Tuesday, April 13, 2021, via webinar. Agenda items will include current topics of interest to the industry. The purpose of the meeting is for the MDIAC to advise the OCC on steps the agency may be able to take to ensure the continued health and viability of minority depository institutions and other issues of concern to minority depository institutions. Members of the public may submit written statements to the MDIAC by email to: MDIAC@OCC.treas.gov.

The OCC must receive written statements no later than 5:00 p.m. EDT on Tuesday, April 6, 2021. Members of the public who plan to attend the meeting via webinar should contact the OCC by 5:00 p.m. EDT on Tuesday, April 6, 2021, to inform the OCC of their desire to attend the meeting and to obtain information about participation via webinar. Members of the public may contact the OCC via email at MDIAC@OCC.treas.gov or by telephone at (212) 790-4001. Attendees should provide their full name, email address, and organization, if any. Members of the public who are hearing impaired should call (202) 649-5597 (TTY) no later than 5:00 p.m. EDT on Tuesday, April 6, 2021, to arrange auxiliary aids such as sign language interpretation for this meeting.

Blake J. Paulson,
Acting Comptroller of the Currency.

[FR Doc. 2021-05958 Filed 3-22-21; 8:45 am]

BILLING CODE P